SECURITIES AND EXCHANGE COMMISSION

[Release No. 34-44345; File No. SR-PCX-99-48]

Self-Regulatory Organization's; Pacific Exchange, Inc.; Order Approving Proposed Rule Change and Amendments No. 1, 2 and 3 Relating to Miscellaneous House-Keeping Amendments to Options Trading Rules

May 23, 2001.

I. Introduction

On November 5, 1999, the Pacific Exchange, Inc. (“PCX” or “Exchange”) filed with the Securities and Exchange Commission (“SEC” or “Commission”), pursuant to section 19(b)(1) of the Securities Exchange Act of 1934 (“Act”) ¹ and Rule 19b-4 thereunder,² a proposed rule change to amend its options trading rules for house-keeping purposes.

¹ 15 U.S.C. 78s(b)(1).

² 17 CFR 240.19b-4.

³ Securities Exchange Act Release No. 43823 (January 9, 2001), 66 FR 3633.

The proposed rule change and Amendment No. 1 were published for comment in the Federal Register on January 16, 2001.³ No comments were received on the proposal. The proposal was amended on January 11 and April 12, 2001.⁴ In this order, the Commission is approving the proposed rule change, as amended.

⁴ See letters from Cindy L. Sink, Senior Attorney, Regulatory Policy, PCX to Heather Traeger, Attorney Adviser, Division of Market Regulation (“Division”), SEC, dated January 10 and April 11, 2001 (“Amendment Nos. 2 and 3,” respectively). In Amendment No. 2, proposed rules 10.13(h)(35) and 10.13(k)(i)(35) are renumbered as 10.13(h)(38) and 10.13(k)(i)(38) because Rules 10.13(h)(35), (36) and (37) already exist. In Amendment No. 3, Rules 10.13(h)(30) and 10.13(k)(i)(30), which address fines for violations of option floor trading restrictions on members with financial arrangements (Rule 6.40(b)), are eliminated to reflect rule changes made by other filings. Also rules affected by the removal of Rules 10.13(h)(30) and 10.13(k)(i)(30) are renumbered. These are technical amendments that do not need to be published for comment.

II. Description of the Proposal

The PCX proposes to modify its rules on options trading by clarifying existing provisions, eliminating superfluous provisions, codifying current policies and procedures, and renumbering certain Option Floor Procedure Advices.

III. Discussion

The Commission finds that the proposed rule change is consistent with the requirements of the Act and the rules and regulations thereunder applicable to a national securities exchange, and in particular, with the requirements of section 6(b)(5).⁵ Specifically, the Commission finds that updating and clarifying rules and codifying current policies and procedures will enhance the ability of PCX members to comply with PCX's rules thereby promoting just and equitable principles of trade, fostering cooperation and coordination with persons engaged in regulating, clearing, settling, processing information with respect to, and facilitating transactions in securities, and in general, protecting investors and the public interest.

⁵ 15 U.S.C. 78f(b)(5).

The Commission also considers the proposal as it relates to the PCX's minor rule violation plan to be consistent with section 6(b)(5),⁶ which requires that members and persons associated with members be appropriately disciplined for violations of Exchange Rules.

⁶ 15 U.S.C. 78f(b)(6).

IV. Conclusion

It is therefore Ordered, pursuant to section 19(b)(2) of the Act,⁷ that the proposed rule change (SR-PCX-99-48), as amended, is approved.

⁷ 15 U.S.C. 78s(b)(2).

For the Commission, by the Division of Market Regulation, pursuant to delegated authority.⁸
⁸ 17 CFR 200.30-3(a)(12).
Margaret H. McFarland,
Deputy Secretary.

[FR Doc. 01-13885 Filed 6-1-01; 8:45am]

BILLING CODE 8010-01-M